DEPARTMENT OF TRANSPORTATION

Federal Aviation Administration

[Summary Notice No. PE-2001-15]

Petitions for Exemption; Summary of Petitions Received; Dispositions of Petitions Issued

AGENCY: Federal Aviation Administration (FAA), DOT.

ACTION: Notice of petitions for exemption received and of dispositions of prior petitions; correction.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 19, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, DC, on February 20, 2001.
Donald P. Byrne,
Assistant Chief Counsel for Regulations.

Petition for Exemption

Docket No.: FAA-2000-8372.

Petitioner: Mr. Ronald Coleman.

Section of 14 CFR Affected: 14 CFR 61.109(a)(2)(i) and 61.129(a)(3)(iv).

Description of Relief Sought/Disposition: To permit a pilot applying for a private or commercial pilot certificate in a single engine airplane in the United States to conduct his/her night cross-country training flight using a multi-engine airplane.

Docket No.: FAA-2000-8498.

Petitioner: Sensenich Wood Propeller Company, Inc.

Section of 14 CFR Affected: 14 CFR 45.11(b).

Description of Relief Sought/Disposition: To permit Sensenich to stamp the part marking information on the propeller hub to meet the requirement for fireproof identification on propellers, instead of attaching a metal tag with the required information.

Docket No.: FAA-2000-8262.

Petitioner: Airbus Industrie.

Section of 14 CFR Affected: 14 CFR 25.785(h)(1), 25.807(c)(7) and 25.813(3).

Description of Relief Sought/Disposition: To permit permanent exemption from the requirements of 14 CFR part 25 pertaining to flight attendant direct view, distance between exits, and installation of interior doors between passenger compartments, for A319 corporate jets.

Docket No.: FAA-2001-8643.

Petitioner: Comair, Inc.

Section of 14 CFR Affected: 14 CFR 93.217.

Description of Relief Sought/Disposition: To permit Delta Connection carriers to conduct domestic operations using Comair's eight international slots at LaGuardia Airport. Grant, 02/01/2001, Exemption No. 7434.

Docket No.: FAA-2000-8343.

Petitioner: Phoenix Air, Inc.

Section of 14 CFR Affected: 14 CFR 105.43(a).

Description of Relief Sought/Disposition: To permit nonstudent parachutists who are foreign nationals to participate in Phoenix-sponsored parachute jumping events without complying with the parachute equipment and packing requirements of § 105.43(a). Grant, 01/31/2001, Exemption No. 7433.

Docket No.: FAA-2001-8700.

Petitioner: Trans World Airlines, Inc.

Section of 14 CFR Affected: 14 CFR 121.433(c)(1)(iii), 121.441(a)(1) and (b)(1), and appendix F to part 121.

Description of Relief Sought/Disposition: To permit TWA to combine recurrent flight and ground training and proficiency checks for TWA's flight crew members in a single annual training and proficiency evaluation program. Grant, 01/31/2001, Exemption No. 6012C.

Docket No.: FAA-2000-8341.

Petitioner: Rockwell Collins do Brasil Ltda.

Section of 14 CFR Affected: 14 CFR 145.47(b).

Description of Relief Sought/Disposition: To permit Rockwell Collins to substitute the calibration standards of the Instituto Nacional de Metrologia, Normalizacao e Qualidade Industrial (INMETRO) for the calibration standards of the U.S. National Institute of Standards and Technology (NIST), formerly the National Bureau of Standards (NBS), to test its inspection and test equipment. Grant, 01/31/2001, Exemption No. 7432.

Docket No.: FAA-2000-8099.

Petitioner: Reeve Aleutian Airways.

Section of 14 CFR Affected: 14 CFR 119.67(a)(1).

Description of Relief Sought/Disposition: To permit Mr. Keith A Campbell to serve as Director of Operations at RAA without holding an airline transport pilot (ATP) certificate. Denial, 01/29/2001, Exemption No. 6585B.

Docket No.: FAA-2001-8787.

Petitioner: Flight Alaska, Inc. dba Yute Air.

Section of 14 CFR Affected: 14 CFR 135.143(c)(2).

Description of Relief Sought/Disposition: To permit Yute Air to operate certain aircraft under part 135 without a TSO-C112 (Mode S) transponder installed in the aircraft. Grant, 01/29/2001, Exemption No. 7428.

Docket No.: FAA-2000-8286.

Petitioner: Raytheon Aircraft Company.

Section of 14 CFR Affected: 14 CFR 21.325(b)(3).

Description of Relief Sought/Disposition: To permit Raytheon to obtain airworthiness approval tags for its Hawker Model parts in accordance with §§ 21.21 and 21.203, and export those class II and class III parts located at certain facilities outside of the United States. The amendment requested would allow Raytheon to staff its Chester Distribution Center with Designated Airworthiness Representatives (DAR) rather than Designated Manufacturing Inspection Representatives (DMIR). Grant, 01/26/2001, Exemption No. 6720B.

Docket No.: FAA-2000-8421.

Petitioner: Commodore Aviation, Inc.

Section of 14 CFR Affected: 14 CFR 21.325(b)(3).

Description of Relief Sought/Disposition: To permit Commodore to issue export airworthiness approvals for Class II products manufactured in Tel Aviv, Israel, by Israel Aircraft Industries, Bedek Aviation Group, as an approved supplier to Commodore under Commodore's part manufacturing authority. Grant, 01/26/2001, Exemption No. 6861A.

Correction

Docket No.: FAA-2000-8062.

Petitioner: The Boeing Company.

Section of 14 CFR Affected: 14 CFR 25.961(a)(5).

Description of Correction: On October 17, 2000, the FAA issued Summary Notice No. PE-2000-61, Petitions for Exemption; Summary of Petitions Received; Dispositions of Petitions Issued (65 FR 63114; October 20, 2000). In that notice, the FAA requested comments on The Boeing Company's petition for exemption to permit a maximum temperature limitation of 80°F for JP-4 and Jet B fuels for use on the Boeing Model 747-400/-400F equipped with Rolls Royce RB211-524G-T/H-T engines.

On January 30, 2001, the FAA issued Summary Notice No. PE-2001-08 (66 FR 8839; February 2, 2001) which inadvertently includes a request for comments on Boeing's petition for exemption. The original comment period on Boeing's request closed on November 13, 2000, and this notice withdraws the summary of Boeing's petition from Summary Notice No. PE-2001-08.

[FR Doc. 01-4545 Filed 2-22-01; 8:45 am]

BILLING CODE 4910-13-M